DEPARTMENT OF THE INTERIOR

Bureau of Land Management

[UT-LLUTG02000-09-14300000-ES0000-241A.00; UTU-5466801]

Notice of Realty Action; Recreation and Public Purposes Act Classification; Utah

AGENCY: Bureau of Land Management, Interior.

ACTION: Notice of Realty Action.

SUMMARY: The Bureau of Land Management (BLM) has examined and found suitable for classification for lease to the City of Ferron, Utah under the provisions of the Recreation and Public Purposes (R&PP) Act, as amended (43 U.S.C. 869-869-4) 196.48 acres of public land in Emery County, Utah. The City of Ferron proposes to use the land for continuing operation and expansion of the Millsite Golf Course. This action reclassifies 149.36 acres from lease or conveyance to lease only and classifies an additional 47.12 acres for lease only.

DATES: Comments regarding the classification for lease must be received by the BLM on or before July 20, 2009. Comments should reference the serial number UTU-5466801.

ADDRESSES: Comments may be submitted to the Bureau of Land Management, Green River District, Price Field Office, 125 South 600 West, Price, Utah 84050.

FOR FURTHER INFORMATION CONTACT: Mike Robinson, Realty Specialist, Mike_Robinson@blm.gov, BLM Green River District, Price Field Office, (435) 636-3630. Additional detailed information concerning this Notice of Realty Action, including environmental records, is available for review at the BLM Green River District, Price Field Office, at the above address. Office hours are 8 a.m. to 4:30 p.m., Monday through Friday except holidays.

SUPPLEMENTARY INFORMATION: The City of Ferron, Utah has developed and managed public lands described below under R&PP Lease UTU-5468801 for the past 23 years for the Millsite Golf Course. The following described lands were classified as suitable for lease or conveyance on November 9, 1986 and lease UTU-5468801 was issued December 8, 1986.

Salt Lake Meridian

T. 20 S., R. 6 E.,

Sec. 12: lots 3 and 4.

T. 20 S., R. 7 E.,

Sec. 7: lots 3 and 4, W½W½NE¼SW¼, and NW¼NW¼SE¼SW¼.

The area described contains 149.36 acres in Emery County.

The City of Ferron proposes to continue to lease these lands for the golf course, and has filed an application under the provisions of the R&PP Act of June 14, 1926, as amended (43 U.S.C. 869-869-4) to lease additional public lands described below for expansion of the Millsite Golf Course.

Salt Lake Meridian

T. 20 S., R. 7 E.,

Sec. 7: SW¼NW¼SE¼SW¼, N½SW¼SE¼SW¼, and SW¼SW¼SE¼SW¼;

Sec. 18: M&B description: Beginning at the Northwest corner of Section 18, Township 20 South, Range 7 East, Salt Lake Base and Meridian; thence N89°51′39″E along the section line 1307.83 feet; thence S57°10′56″W 157.68 feet; thence S55°50′32″W 176.54 feet; thence S34°13′49″W 205.52 feet; thence S39°49′16″E 112.46 feet; thence S75°52′46″E 77.18 feet; thence N82°23′51″E 112.33 feet; thence S08°11′03″E 188.01 feet; thence S40°02′45″E 37.86 feet; thence S61°38′32″E 92.97 feet; thence S13°36′46″E 76.23 feet; thence S50°12′36″E 168.29 feet; thence S51°32′07″W 271.50 feet; thence South 270.26 feet; thence West 531.17 feet; thence S44°00′35″W 45.51 feet; thence South 131.74 feet; thence West 537.26 feet; thence N00°08′17″W 286.10 feet; thence N15°42′56″W 455.07 feet to the West line of said Section 18; thence along said West line of said Section 18 N01°09′39″W 762.31 feet to the point of beginning.

The area described contains 47.12 acres in Emery County.

This new classification for lease only is for all of the above-described lands aggregating 196.48 acres and changes the previous classification of 149.36 acres from lease or conveyance to lease only.

The land is not needed for any Federal purposes. The R&PP Act provides for leasing of public lands by local governments for public purposes such as golf courses without monetary consideration. Leasing is consistent with current BLM land use planning, Lands and Realty Decision, LAR-8, of the Price Field Office Resource Management Plan—October 2008, and would be in the public interest.

Upon the effective date of this classification, a new lease will be issued to replace the existing lease and incorporate the expansion area lands. The lease, when issued, will be subject to the following terms and conditions:

1. Provisions of the Recreation and Public Purposes Act and all applicable regulations of the Secretary of the Interior including compliance with the plans of development and management approved on November 26, 1986 and October 2, 2008.

2. The lessee shall indemnify the United States against any liability for damage to life or property arising from the occupancy or use of BLM-administered lands under this lease.

3. The lessee shall comply with applicable Federal and State laws and regulations affecting in any manner construction, operation, maintenance or termination of the lease, including water quality, public health and public safety.

4. The lease is subject to existing rights which include the following rights-of-way:

a. UTU-54669; Water Storage Tank and Pipeline owned by City of Ferron.

b. UTU-66122; Power Line owned by PacifiCorp dba Utah Power and Light.

c. UTU-67436; Millsite Dam and Reservoir owned by Utah Division of Water Resources.

d. UTU-78704; Oil and Gas Lease held by Henry A Alker.

e. UTU-84129; Oil and Gas Lease held by International Petroleum.

5. The lessee shall immediately bring to the attention of the lessor any cultural or paleontological resources discovered during operations under the lease. The lessee shall not disturb any cultural or paleontological resources except as instructed by the lessor. The cost of investigating and protecting cultural and paleontological resources discovered during construction or operations shall be borne by the lessee.

6. The lessee shall protect all survey monuments, witness corners, reference monuments and bearing trees within this lease against disturbance during construction, operation, maintenance, and rehabilitation. If any damage occurs, the lessee shall have a Registered Land Surveyor restore or take other measures found in the Manual of Surveying Instructions for the Survey of the Public Lands of the United States, latest edition.

7. No construction may begin until evidence of sufficient funding has been submitted and accepted.

8. The lease may be renewed if the terms of the lease are being met.

9. Construction and other activities potentially disruptive to wintering wildlife are prohibited during the period from December 1 to April 15 for the protection of big game Mule Deer crucial winter habitat.

Classification Comments: Interested parties may submit comments involving the suitability of the lands for golf course expansion purposes. Comments on the classification are restricted to whether the lands are physically suited for the proposal, whether the uses will maximize the future use or uses of the land, whether the use is consistent with local planning and zoning, or whether the use is consistent with State and Federal programs.

Application Comments: Interested parties may submit comments regarding the specific use proposed in the application and plan of development, whether the BLM followed proper administrative procedures in reaching the decision, or any other factor not directly related to the suitability of the land for a golf course.

Before including your address, phone number, e-mail address, or other personal identifying information in your comment, you should be aware that your entire comment—including your personal identifying information—may be made publicly available at any time. While you can ask us in your comment to withhold your personal identifying information from public review, we cannot guarantee that we will be able to do so.

Upon publication of this notice in the Federal Register the lands described above from both the original lease and the new extension shall be segregated to the extent that they will not be subject to appropriation under the public land laws including the general mining laws except for leasing under the Mineral Leasing Act, per the Price RMP LAR-6 “Manage RPP lease as open to oil and gas leasing subject to major constraint—No Surface Occupancy” and lease under the R&PP Act.

The BLM State Director will review any adverse comments. In the absence of any adverse comments, the classification will become effective 60 days from the date of publication in the Federal Register.

Authority: 43 CFR 2741.5(h).

Dated: March 27, 2009.
Selma Sierra,
State Director.

[FR Doc. E9-13011 Filed 6-3-09; 8:45 am]

BILLING CODE 4310-DQ-P